DEPARTMENT OF HEALTH AND HUMAN SERVICES

National Institutes of Health

National Center for Complementary & Alternative Medicine; Amended Notice of Meeting

Notice is hereby given of a change in the meeting of the National Center for Complementary and Alternative Medicine Special Emphasis Panel, July 8, 2002, 2 pm to July 8, 2002, 5 pm, 6707 Democracy Blvd., Bethesda, MD, 20892 which was published in the Federal Register on June 18, 2002, 67 FR 41435.

The meeting will be held July 9, 2002 from 2 pm to 5 pm, 6707 Democracy Blvd., Bethesda, Maryland (telephone conference call). The meeting is closed to the public.

Dated: July 3, 2002.
LaVerne Y. Stringfield,
Director, Office of Federal Advisory Committee Policy.

[FR Doc. 02-17663 Filed 7-12-02; 8:45 am]

BILLING CODE 4140-01-M